DEPARTMENT OF HEALTH AND HUMAN SERVICES

Announcement of Requirements and Registration for “Reporting Patient Safety Events Challenge”

AGENCY: Office of the National Coordinator for Health Information Technology, HHS.

Award Approving Official: Farzad Mostashari, National Coordinator for Health Information Technology.

ACTION: Notice.

SUMMARY: Patient Safety Organizations (PSOs) listed by the Agency for Healthcare Research and Quality (AHRQ) create a safe environment for health care providers to collect, aggregate, and analyze data without fear of legal discovery. Hospitals struggle to increase internal incident reporting, especially by busy physicians and nurses, and to create effective systems for the quality and risk management staff to do root cause analyses and follow-up. The “Reporting Patient Safety Events Challenge” asks multi-disciplinary teams to develop an application that facilitates the reporting of patient safety events, whether implemented in hospital or ambulatory settings. The solution needs to make it easier for any individual to file a report electronically, using Common Formats but allowing for additional elements and narratives. It must allow the hospital quality and risk management staff to add information from follow-up investigation, submit reports as appropriate to PSOs, the state, or the FDA (which may differ, and need to be tracked separately), and track follow-up activities.

The statutory authority for this challenge competition is Section 105 of the America COMPETES Reauthorization Act of 2010 (Pub. L. 111-358).

DATES: Effective on April 11, 2012. Challenge submission period ends July 23, 2012, 11:59 p.m. et.

FOR FURTHER INFORMATION CONTACT: Adam Wong, 202-720-2866; Wil Yu, 202-690-5920.

SUPPLEMENTARY INFORMATION:

Subject of Challenge Competition

The “Reporting Patient Safety Events Challenge” asks multi-disciplinary teams to develop an application that facilitates the reporting of patient safety events, whether implemented in hospital or ambulatory settings. This application would:

• Increase the ease of reporting patient safety events to the provider or parent organization;

• Enable providers to import relevant EMR, PHR, and other electronic information, including screen shots, to the patient safety report and, in turn, submit an AHRQ Common Formats-compliant report to one or more PSOs;

• Capture useful demographic and other relevant information from each patient including age, gender, race, and relevant diagnoses;

• Capture information about the type of organization submitting the report using AHRQ's PSO Information format;

• Reduce burden of reporting by enabling the provider or parent organization to have the option of submitting information in the patient safety report to non-PSO public health or health oversight organizations, including state or federal programs or accrediting or certifying bodies.

• Be platform-agnostic; and

• Leverage and extend NwHIN standards and services including, but not limited to, transport (Direct, web services), content (Transitions of Care, CCD/CCR), and standardized vocabularies.

Eligibility Rules for Participating in the Competition

To be eligible to win a prize under this challenge, an individual or entity—

(1) Shall have registered to participate in the competition under the rules promulgated by the Office of the National Coordinator for Health Information Technology.

(2) Shall have complied with all the requirements under this section.

(3) In the case of a private entity, shall be incorporated in and maintain a primary place of business in the United States, and in the case of an individual, whether participating singly or in a group, shall be a citizen or permanent resident of the United States.

(4) May not be a Federal entity or Federal employee acting within the scope of their employment.

(5) Shall not be an HHS employee working on their applications or submissions during assigned duty hours.

(6) Shall not be an employee of Office of the National Coordinator for Health IT.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Registration Process for Participants

To register for this challenge participants should:

Access the www.challenge.gov Web site and search for the “Reporting Patient Safety Events Challenge”.

Access the ONC Investing in Innovation (i2) Challenge Web site at:

○ http://www.health2challenge.org/onc-i2-challenges/.

○ A registration link for the challenge can be found on the landing page under the challenge description.

Amount of the Prize

First Prize: $50,000.

Second Prize: $15,000.

Third Prize: $5,000.

Awards may be subject to Federal income taxes and HHS will comply with IRS withholding and reporting requirements, where applicable.

Payment of the Prize

Prize will be paid by contractor.

Basis Upon Which Winner Will Be Selected

The ONC review panel will make selections based upon the following criteria:

1. Effectiveness of the system in facilitating patient safety event reporting including its compliance with AHRQ's Common Formats.

2. Usability and design from the standpoint of all stakeholders.

3. Ability to integrate with electronic health records and other HIT data sources.

4. Creativity and innovation.

5. Leverage NwHIN standards including transport, content, and vocabularies.

Additional Information

Ownership of intellectual property is determined by the following:

Each entrant retains title and full ownership in and to their submission. Entrants expressly reserve all intellectual property rights not expressly granted under the challenge agreement.

By participating in the challenge, each entrant hereby irrevocably grants to Sponsor and Administrator a limited, non-exclusive, royalty free, worldwide, license and right to reproduce, publically perform, publically display, and use the Submission to the extent necessary to administer the challenge, and to publically perform and publically display the Submission, including, without limitation, for advertising and promotional purposes relating to the challenge.

Authority: 15 U.S.C. 3719.

Dated: April 5, 2012.
Farzad Mostashari,
National Coordinator for Health Information Technology.

[FR Doc. 2012-8758 Filed 4-10-12; 8:45 am]

BILLING CODE 4150-45-P